DEPARTMENT OF HOUSING AND URBAN DEVELOPMENT

[Docket No. FR-5281-N-72]

FHA-Insured Mortgage Loan Servicing Involving the Loss Mitigation Programs

AGENCY: Office of the Chief Information Officer, HUD.

ACTION: Notice.

SUMMARY: The proposed information collection requirement described below has been submitted to the Office of Management and Budget (OMB) for review, as required by the Paperwork Reduction Act. The Department is soliciting public comments on the subject proposal.

FHA insurance is an important source of mortgage credit for low and moderate-income borrowers and neighborhoods. Providing assistance, as needed, to enable families to cure their delinquencies and retain their homes delinquencies and retain their homes stabilizes neighborhoods that might otherwise suffer from deterioration and problems associated with vacant and abandoned properties. Avoidance of foreclosure and the resultant costs also serve to further stabilize the mortgage insurance premiums charge by FHA and the Federal budget receipts generated from those premiums. The information collection request for OMB review seeks to combine the requirements of several existing OMB collections under one collection; they are as follows OMB collections 2502-0301, 2502-0464 and 2502-0523.

DATES: Comments Due Date: November 9, 2009.

ADDRESSES: Interested persons are invited to submit comments regarding this proposal. Comments should refer to the proposal by name and/or OMB approval Number (2539-0008) and should be sent to: HUD Desk Officer, Office of Management and Budget, New Executive Office Building, Washington, DC 20503; fax: 202-395-5806.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: FHA-Insured Mortgage Loan Servicing Involving the Loss Mitigation Programs.

OMB Approval Number: 2502-NEW.

Form Numbers: HUD—1_Settlement Statement, HUD—27011_Single Family Application for Benefits, HUD-90035—Information Disclosure, HUD-90041—Request for Variance, Pre-foreclosure sale procedure, HUD-90045—Approval to Participate, HUD-90051—Sale Contract Review, HUD-90052—Closing Worksheet, HUD-92068-F—Request for Financial Information, HUD-PA-426—How To Avoid Foreclosure.

Description of the Need for the Information and Its Proposed Use

FHA insurance is an important source of mortgage credit for low and moderate-income borrowers and neighborhoods. Providing assistance, as needed, to enable families to cure their delinquencies and retain their homes delinquencies and retain their homes stabilizes neighborhoods that might otherwise suffer from deterioration and problems associated with vacant and abandoned properties. Avoidance of foreclosure and the resultant costs also serve to further stabilize the mortgage insurance premiums charge by FHA and the Federal budget receipts generated from those premiums. The information collection request for OMB review seeks to combine the requirements of several existing OMB collections under one collection; they are as follows OMB collections 2502-0301, 2502-0464 and 2502-0523.

Frequency of Submission: On occasion, Monthly.

| Number of respondents | Annual responses | × | Hours per response | = | Burden hours
Reporting Burden: | 83,110 | 6.12 |  | 1.527 |  | 777,494

Total Estimated Burden Hours: 777,494.

Status: New Collection.

Authority: Section 3507 of the Paperwork Reduction Act of 1995, 44 U.S.C. 35, as amended.

Dated: October 1, 2009.
Lillian Deitzer,
Departmental Reports Management Officer, Office of the Chief Information Officer.

[FR Doc. E9-24298 Filed 10-7-09; 8:45 am]

BILLING CODE 4210-67-P